DEPARTMENT OF AGRICULTURE

Rural Utilities Service

7 CFR Part 1755

Specifications and Drawings for Construction Direct Buried Plant

AGENCY: Rural Utilities Service, USDA.

ACTION: Proposed Rule.

SUMMARY: The Rural Utilities Service (RUS) proposes to amend its regulations on Telecommunications Standards and Specifications for Materials, Equipment and Construction, by revising RUS Bulletin 1753F-150, Specifications and Drawings for Construction of Direct Buried Plant (Form 515a). The revised specification will include new construction units for Fiber-to-the-Home, remove redundant or outdated requirements, and simplify the specification format.

DATES: Written comments must be received by RUS or be postmarked no later than August 9, 2010.

ADDRESSES: Submit comments by either of the following methods:

Federal eRulemaking Portal: Go to http://www.regulations.gov and, in the lower “Search Regulations and Federal Actions” box, select “Rural Utilities Service” from the agency drop-down menu, then click on “Submit.” In the Docket ID column, select RUS-2010-Telecom-0003 to submit or view public comments and to view supporting and related materials available electronically. Information on using Regulations.gov, including instructions for accessing documents, submitting comments, and viewing the docket after the close of the comment period, is available through the site's “User Tips” link.

Postal Mail/Commercial Delivery: Please send your comment addressed to Michele Brooks, Director, Program Development and Regulatory Analysis, USDA-Rural Utilities Service, 1400 Independence Avenue, STOP 1522, Room 5159, Washington, DC 20250-1522. Please state that your comment refers to Docket No. RUS-2010-Telecom-0003.

Other Information: Additional information about Rural Development and its programs is available on the Internet at http://www.rurdev.usda.gov/index.html.

FOR FURTHER INFORMATION CONTACT: Norberto Esteves, Chair, Technical Standards Committee “A” (Telecommunications), Advanced Services Division, Telecommunications Program, USDA-Rural Utilities Service, STOP 1550, Washington, DC 20250-1550. Telephone: (202) 720-0699; Fax: (202) 205-2924; e-mail: norberto.esteves@wdc.usda.gov.

SUPPLEMENTARY INFORMATION:

Executive Order 12866

This rule is exempted from the Office of Management and Budget (OMB) review for purposes of Executive Order 12866 and, therefore, has not been reviewed by OMB.

Executive Order 12988

This proposed rule has been reviewed under Executive Order 12988, Civil Justice Reform. USDA Rural Development has determined that this proposed rule meets the applicable standards provided in section 3 of the Executive Order. In addition, all state and local laws and regulations that are in conflict with this proposed rule will be preempted; no retroactive effect will be given to the rule, and, in accordance with section 212(e) of the Department of Agriculture Reorganization Act of 1994 (7 U.S.C. 6912(e)), administrative appeals procedures, if any are required, must be exhausted before an action against the Department or its agencies may be initiated.

Regulatory Flexibility Act Certification

USDA Rural Development has determined that this proposed rule will not have a significant economic impact on a substantial number of small entities, as defined by the Regulatory Flexibility Act (5 U.S.C. 601 et seq.). The standard USDA Rural Development telecommunications loan documents contain provisions on procurement of products and construction of telecommunications facilities purchased with loan funds. This ensures that the telecommunications systems financed with loan funds are adequate to serve the purposes for which they are to be constructed and that loan funds are adequately secured. UDSA Rural Development borrowers, as a result of obtaining Federal financing, receive economic benefits that exceed any direct cost associated with complying with UDSA Rural Development regulations and requirements.

Information Collection and Recordkeeping Requirements

The information collection and recordkeeping requirements contained in this proposed rule are cleared under control numbers 0572-0059 and 0572-0132 pursuant to the Paperwork Reduction Act of 1995 (44 U.S.C. Chapter 35, as amended).

Executive Order 13132

This regulation will not have substantial direct effects on the States, on the relationship between the national government and the States, or on distribution of power and responsibilities among the various levels of government. Under Executive Order 13132, this proposed rule does not have sufficient federalism implications requiring the preparation the preparation of a Federalism Assessment.

Catalog of Federal Domestic Assistance

The program described by this proposed rule is listed in the Catalog of Federal Domestic Assistance Program under No. 10.851, Rural Telephone Loans and Loan Guarantees and No. 10.857, Rural Broadband Access Loans and Loan Guarantees. This catalog is available on a subscription basis from the Superintendent of Documents, the United States Government Printing Office, Washington, DC 20402. Telephone: (202) 512-1800.

Executive Order 12372

This proposed rule is excluded from the scope of Executive Order 12372, Intergovernmental Consultation, which may require consultation with State and local officials. See the final rule related notice titled “Department Programs and Activities Excluded from Executive Order 12372” (50 FR 47034), advising that USDA Rural Development Utilities Programs loans and loan guarantees are excluded from the scope of Executive Order 12372.

Unfunded Mandates

This proposed rule contains no Federal Mandates (under the regulatory provisions of Title II of the Unfunded Mandates Reform Act of 1995 (2 U.S.C. Chapter 25)) for State, local, and tribal governments or the private sector. Thus, this proposed rule is not subject to the requirements of sections 202 and 205 of the Unfunded Mandates Reform Act of 1995.

National Environmental Policy Act Certification

The Agency has determined that this proposed rule will not significantly affect the quality of the human environment as defined by the National Environmental Policy Act of 1969 (42 U.S.C. 4321 et seq.). Therefore, this action does not require an environmental impact statement or assessment.

Background

RUS issues contracts, standards and specification for construction of telecommunications facilities financed with RUS loan funds. RUS is proposing to revise the specifications for buried plant construction contained in RUS Bulletin 1753F-150 (RUS Form 515a).

The current outside plant specifications are used by borrowers to secure the services of a contractor for the construction of telecommunications facilities. Because of Fiber-to-the-Home construction and advancements made in construction installation methods and materials, the present specifications have become outdated. To allow borrowers and contractors to take advantage of these improved construction installation methods and materials, the current specification will be revised.

The proposed bulletin is available from the Agency. Interested parties may obtain copies from Norberto Esteves, Chair, Technical Standards Committee “A” (Telecommunications), Advanced Services Division, Telecommunications Program, USDA-Rural Utilities Service, Room 2849, South Building, Washington, DC 20250-1550. Telephone: (202) 720-0699.

List of Subjects in 7 CFR Part 1753

Incorporation by reference, Loan programs—communications, Reporting and recordkeeping requirements, Rural areas, Telephone.

For reasons set out in the preamble, RUS proposes to amend chapter XVII of title 7 of the Code of Federal Regulations as follows:

PART 1755—TELECOMMUNICATIONS POLICIES ON SPECIFICATIONS, ACCEPTABLE MATERIALS, AND STANDARD CONTRACT FORMS

1. The authority citation for part 1755 continues to read as follow:

Authority: 7 U.S.C. 901 et seq., 1921 et seq., 6941 et seq.

2. In § 1755.97, the table is amended by revising the issue date of RUS Bulletin 1753F-150 to read as follows:

§ 1755.97 Incorporation by reference of telecommunications standards and specifications.

* * * * *

RUS bulletin No. | Specification No. | Date last issued | Title of standard or specification
* * * * * * *
1753F-150 | Form 515a | [Effective date of final rule] | Specifications and Drawings for Construction of Direct Buried Plant.
* * * * * * *

Dated: May 18, 2010.
Jessica Zufolo,
Acting Administrator, Rural Utilities Service.

[FR Doc. 2010-12830 Filed 6-7-10; 8:45 am]

BILLING CODE 3410-15-P